COMMISSION ON CIVIL RIGHTS

Notice of Public Meeting of the Washington Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Washington Advisory Committee (Committee) will hold a series of meetings via teleconference on Tuesday, February 18, 2020 at 12 p.m. and Wednesday, March 4, 2020 at 11:30 a.m. Pacific Time. The purpose of the meeting for the Committee to discuss their upcoming hearing on Voting Rights and Felony Convictions in Washington.

DATES: The meetings will be held on:

• Tuesday, February 18, 2020, at 12 p.m. Pacific Time

• Wednesday March 4, 2020, at 11:30 a.m. Pacific Time

Public Call Information: Dial: 800-367-2403, Conference ID: 2255959.

FOR FURTHER INFORMATION CONTACT: Brooke Peery, DFO, at bpeery@usccr.gov or (213) 894-3437.

SUPPLEMENTARY INFORMATION: Members of the public may listen to the discussion. This meeting is available to the public through the above listed toll free number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Regional Programs Unit Office, U.S. Commission on Civil Rights, 300 N Los Angeles St., Suite 2010, Los Angeles, CA 90012. They may also be faxed to the Commission at (213) 894-0508, or emailed to Angelica Trevino at atrevino@usccr.gov. Persons who desire additional information may contact the Regional Programs Unit Office at (213) 894-3437.

Records generated from this meeting may be inspected and reproduced at the Regional Programs Unit Office, as they become available, both before and after the meeting. Records of the meeting will be available at: https://www.facadatabase.gov/FACA/apex/FACAPublicCommittee?id=a10t0000001gzmYAAQPlease click on the “Meeting Details” and “Documents” links. Persons interested in the work of this Committee are also directed to the Commission's website, http://www.usccr.gov, or may contact the Regional Programs Unit office at the above email or street address.

Agenda

Welcome and Roll Call

Discussion: Hearing on Voting Rights in Washington

Public Comment

Adjournment

Dated: January 29, 2020.
David Mussatt,
Supervisory Chief, Regional Programs Unit.

[FR Doc. 2020-01951 Filed 1-31-20; 8:45 am]

BILLING CODE P